DEPARTMENT OF JUSTICE

Notice of Lodging of Consent Decree Pursuant to the Clean Water Act

Notice is hereby given that on August 23, 2012, a proposed Consent Decree was lodged with the United States District Court for the District of Massachusetts in Conservation Law Foundation, Inc. and United States v. Boston Water and Sewer Commission, et al., Civil Action No. 10-cv-10250-RGS (D. Mass.).

The Consent Decree resolves the United States' and the Conservation Law Foundation's claims of violations under Section 301 of the Clean Water Act, 33 U.S.C. 1311, relating to discharges of pollutants from the Boston Water and Sewer Commission's municipal separate storm sewer system (“MS4”) and wastewater collection system into Boston Harbor and its tributaries. The Consent Decree requires the BWSC to develop and implement various programs to address these discharges, including (a) Improvements to BWSC's program to identify and eliminate illicit discharges to its MS4, (b) stormwater modeling, (c) stormwater control through best management practices, (c) capacity, management, operation and maintenance corrective action, (d) construction site inspection and enforcement, and (e) industrial facility stormwater pollution prevention. BWSC will also pay a civil penalty of $235,000 and implement a supplemental environmental project worth at least $160,000 involving the lining of at least 25 leaking private sewer laterals that have been identified as sources of sewage to BWSC's storm drains.

For a period of thirty (30) days from the date of this publication, the United States Department of Justice will receive comments relating to the proposed Consent Decree. Comments should be addressed to the Assistant Attorney General for the Environment and Natural Resources Division, and should either be emailed to pubcomment-ees.enrd@usdoj.gov or mailed to U.S. Department of Justice, P.O. Box 7611, Washington, DC 20044-7611. The comments should refer to Conservation Law Foundation, Inc. and United States v. Boston Water and Sewer Commission, et al., D.J. Ref. #90-5-1-1-10166.

During the public comment period, the proposed Consent Decree may be examined on the following Department of Justice Web site, http://www.usdoj.gov/enrd/Consent_Decrees.html. A copy of the Consent Decree may also be obtained by mail from the Consent Decree Library, P.O. Box 7611, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $19.50 ($.25 per page reproduction cost for the 78 page proposed Consent Decree) payable to the U.S. Treasury. If you would also like a copy of the attachments to the proposed Consent Decree, please so note and include an additional $36.00 (25 cents per page for the 144 pages of attachments). If requesting by email or fax, forward a check in that amount to the Consent Decree Library at the address given above.

Ronald G. Gluck,
Assistant Section Chief, Environmental Enforcement Section, Environment & Natural Resources Division.

[FR Doc. 2012-21148 Filed 8-27-12; 8:45 am]

BILLING CODE 4410-15-P